DEPARTMENT OF HOMELAND SECURITY

Transportation Security Administration

Intent to Request Approval From OMB of One New Public Collection of Information: TSA infoBoards

AGENCY: Transportation Security Administration, DHS.

ACTION: 60-Day notice.

SUMMARY: The Transportation Security Administration (TSA) invites public comment on a new Information Collection Request (ICR) abstracted below that we will submit to the Office of Management and Budget (OMB) for approval in compliance with the Paperwork Reduction Act (PRA). The ICR describes the nature of the information collection and its expected burden for the TSA infoBoards. TSA infoBoards (formerly WebBoards) are an information-sharing environment designed to serve stakeholders in the transportation security community and are used to disseminate mission-critical information. It provides stakeholders with an online portal, which allows authorized users to obtain, post, and exchange information, access common resources, and communicate with similarly situated individuals. Utilizing and inputting information into TSA infoBoards is completely voluntary.

DATES: Send your comments by May 16, 2016.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose of Data Collection

TSA infoBoards were developed by TSA as part of its broad responsibilities and authorities under the Aviation and Transportation Security Act (ATSA), and delegated authority from the Secretary of Homeland Security, for “security in all modes of transportation . . . including security responsibilities . . . over modes of transportation that are exercised by the Department of Transportation.” ¹

¹ See Public Law 107-71 (115 Stat. 597, Nov. 19, 2001), codified at 49 U.S.C. 114 (d). The TSA Assistant Secretary's current authorities under ATSA have been delegated to him by the Secretary of Homeland Security. Section 403(2) of the Homeland Security Act (HSA) of 2002, Public Law 107-296 (116 Stat. 2315, Nov. 25, 2002), transferred all functions of TSA, including those of the Secretary of Transportation and the Under Secretary of Transportation of Security related to TSA, to the Secretary of Homeland Security. Pursuant to DHS Delegation Number 7060.2, the Secretary delegated to the Assistant Secretary (then referred to as the Administrator of TSA), subject to the Secretary's guidance and control, the authority vested in the Secretary with respect to TSA, including that in section 403(2) of the HSA.

The TSA infoBoards are a data management system that provides coordination and collaboration with parties that have a relevant interest in transportation security and an appropriate level of need to access transportation security information-such as, regulated parties and other industry stakeholders, Federal agencies, and state and local governments. This system also integrates other security-related information and communications at the sensitive security information (SSI) level. It is located in a secure online environment and is accessible from the Homeland Security Information Network (HSIN) and TSA (for TSA staff only). It disseminates mission-critical information to users inside and outside of the TSA organization. It provides an online portal allowing authorized users to obtain, post, and exchange information, access common resources, and communicate with similarly situated individuals.

TSA infoBoards are primarily used for disseminating TSA mission-critical information, such as Security Directives (SD), compliance status, policy updates, and watch lists; however, some groups of stakeholders utilize infoBoards for collaboration and to upload transportation security information. InfoBoards allow stakeholders to filter alerts and information based on their particular needs, such as their regulated areas of operation or their treaty relationship for foreign government staff.

TSA intends TSA infoBoards to be used primarily by individuals with transportation security responsibilities, such as aircraft operators, airport security coordinators, and international transportation security coordinators. These individuals can voluntarily contact TSA to request access to TSA infoBoards; TSA does not require participation in TSA infoBoards.

Description of Data Collection

TSA will collect two types of information through TSA infoBoards. The collection is voluntary. TSA infoBoards users are not required to provide all information requested, but users who choose to withhold information will not receive the benefits of TSA infoBoards associated with that information collection.

1. User registration information. TSA will collect this information to ensure only those members of the transportation community with a relevant interest in transportation security and with an appropriate level of need to access transportation security information can be allowed onto TSA infoBoards. Such registration information will include the user's name, professional contact information, agency/company, job title, employer, airport (optional), citizenship, regulatory interest, and employment verification contact information.

2. User's choice of infoBoards. TSA will collect this information to select TSA infoBoards community(ies) appropriate for the particular user. Users are asked to submit their transportation security interest(s) and desired infoBoard(s) (to assess the user's qualifications and needs together with the user registration information).

Use of Results

TSA will use this information to assess and improve the capabilities of all transportation modes to prevent, prepare for, mitigate against, respond to, and recover from transportation security incidents. A failure to collect this information will limit TSA's ability to effectively enable modal operators to respond to, and quickly recover after, a transportation security incident. Insufficient awareness, prevention, response, and recovery to a transportation security incident will result in increased vulnerability of the U.S. transportation network.

Based on industry population estimates and growth rates, and interest generated amongst the transportation modes prior to TSA infoBoards' release to the public, TSA estimates that there will be approximately 10,000 users within the first three years of the system's use. TSA estimates users will spend approximately 1 hour per TSA infoBoards user inputting the information described above. Given this information, the total annual hour burden for this information collection for all respondents within the first three years of TSA infoBoards' release is estimated to be approximately 30,000 hours. There are no fees to use TSA infoBoards.

Dated: March 10, 2016.
Christina A. Walsh,
TSA Paperwork Reduction Act Officer, Office of Information Technology.

[FR Doc. 2016-05981 Filed 3-16-16; 8:45 am]

BILLING CODE 9110-05-P